DEPARTMENT OF ENERGY

Federal Energy Regulatory Commission

[Docket No. EL20-4-000]

North Carolina Eastern Municipal Power Agency v. Duke Energy Progress, LLC; Notice of Complaint

Take notice that on October 11, 2019, pursuant to sections 206 and 306 of the Federal Power Act, 16 U.S.C. 824e, 825e and Rule 206 of the Federal Energy Regulatory Commission's (Commission) Rules of Practice and Procedure, 18 CFR 385.206, North Carolina Eastern Municipal Power Agency (Complainant) filed a formal complaint against Duke Energy Progress, LLC, (Respondent) alleging that 11.0 percent return on common equity included in the Fifth Amended and Restated Full Requirements Power Supply Agreement between Complainant and Respondent is excessive and therefore unjust and unreasonable, all as more fully explained in the complaint.

The Complainant certifies that copies of the complaint were served on the contacts listed for Respondent in the Commission's list of Corporate Officials and on affected regulatory agencies.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 31, 2019.

Dated: October 16, 2019.
Kimberly D. Bose,
Secretary.

[FR Doc. 2019-22999 Filed 10-21-19; 8:45 am]

BILLING CODE 6717-01-P